DEPARTMENT OF DEFENSE

Department of the Air Force

Notice of Intent To Prepare an Environmental Impact Statement For Divert Activities and Exercises, Guam and Commomwealth of The Northern Mariana Islands

AGENCY: Headquarters Pacific Air Forces, United States Air Force, DoD.

ACTION: Notice of Intent.

SUMMARY: Pursuant to the National Environmental Policy Act (NEPA) of 1969, as amended (42 U.S.C. 4321, et seq.), the Council on Environmental Quality (CEQ) Regulations for Implementing the Procedural Provisions of NEPA (40 CFR parts 1500-1508), and U.S. Air Force (USAF) Environmental Impact Analysis Process (32 CFR part 989), the USAF is issuing this notice to advise the public of its intent to prepare an Environmental Impact Statement (EIS) for Divert Activities and Exercises, Guam and Commonwealth of the Northern Mariana Islands.

The proposed divert activities and exercises would involve airfield improvements designed to provide additional divert capability for various military aircraft operating as part of joint training exercises, humanitarian assistance activities, and disaster relief operations for northeast Asia. The proposed action would include the development and construction of facilities and infrastructure designed to support up to one tanker squadron of 12 KC-135 aircraft and its approximately 500 support personnel. This proposed action includes divert activities and exercises involving a tanker squadron, as well as USAF, U.S. Navy, or other military aircraft operating in the region, and ideally would require a 10,000-foot runway. Components of the proposal include a cargo pad; an expanded runway area; new taxiways, aprons, and shoulders; 6,000-square foot maintenance facility; jet fuel receiving, storage, and delivery capability; and associated pavement markings, lighting, security, and other related infrastructure.

The possible alternatives for the divert airfield capability include the international airports on Saipan, Tinian, Rota, or other reasonable alternatives developed during the scoping process. Guam International Airport, as an existing divert location, will be considered in this EIS, as part of the no action alternative.

The Air Force is in the process of inviting potential Cooperating Agencies to participate in aspects of the EIS development as appropriate or required.

Scoping: In order to effectively define the full range of issues to be evaluated in the EIS, the USAF will sponsor a series of scoping meetings to determine the scope of the EIS and solicit comments from interested agencies and members of the public.

DATES: All scoping meetings will be held from 5:30 p.m. to 8:30 p.m. The scheduled dates, times, and locations for the scoping meetings will be published in local media. Scoping meetings will be held in the following locations:

Date | Locations
October 13, 2011 | Barrigada Mayor's Office, Barrigada, Guam.
October 14, 2011 | Dededo Mayor's Office/Senior Center, Dededo, Guam.
October 17, 2011 | Saipan Multi-Purpose Center, Beach Road, Susupe, Saipan.
October 18, 2011 | Tinian Elementary School, San Jose Village, Tinian.
October 20, 2011 | Sinapalo Elementary School Rota, Sinapalo, Rota.

Comments will be accepted at any time during the environmental impact analysis process. However, to ensure the USAF has sufficient time to consider public input in the preparation of the Draft EIS, comments should be submitted to the address below by November 10, 2011.

Scoping comments may be submitted in writing to the address listed below. Verbal or written comments will also be accepted at each of the public scoping meetings. Scoping comments may also be submitted via the World Wide Web at http://www.PACAFDivertMarianasEIS.com. This Web site will be activated on October 1, 2011.

FOR FURTHER INFORMATION CONTACT: Capt Kimberly Bender, PACAF/PA, 25 E Street, Suite G-108, Joint Base Pearl Harbor-Hickam, HI 96853, Attn: PACAF Divert Marianas EIS.

Bao-Anh Trinh,
Air Force Federal Register Liaison Officer.

[FR Doc. 2011-24754 Filed 9-26-11; 8:45 am]

BILLING CODE 5001-10-P